DEPARTMENT OF THE INTERIOR

[Docket No. ONRR-2012-0002]

Public Listening Sessions To Obtain Input on the Multi-Stakeholder Group Tasked With the Implementation of the Extractive Industries Transparency Initiative

AGENCY: Office of the Secretary, Interior.

ACTION: Notice.

SUMMARY: The Department of the Interior (Department) announces four public listening sessions to receive comments regarding a multi-stakeholder group to implement the Extractive Industries Transparency Initiative (EITI).

DATES: The public listening session dates and cities are:

Session 1—March 19, 2012 (1-3 p.m. central time) in St. Louis, Missouri.

Session 2—March 21, 2012 (1-3 p.m. mountain time) in Denver, Colorado.

Session 3—March 28, 2012 (1-3 p.m. mountain time) in Houston, TX.

Session 4—March 29, 2012 (1-3 p.m. eastern time) in Washington, DC.

ADDRESSES: The public listening session locations are:

Session 1—Renaissance St. Louis Grand Hotel, 800 Washington Ave., St. Louis, Missouri 63101, telephone number (314) 418-5820.

Session 2— Denver Marriott City Center, 1701 California St., Denver, Colorado 80202, telephone number (303) 297-1300.

Session 3—Hilton Houston Post Oak, 2001 Post Oak Boulevard, Houston, Texas 77056, telephone number (713) 961-9300.

Session 4—Main Interior Building, 1849 C Street, NW., Washington DC 20240 (Yates Auditorium), telephone number (202) 254-5573.

FOR FURTHER INFORMATION CONTACT: Ben Nussdorf, telephone (202) 254-5573, fax number (202) 254-5589, email benjamin.nussdorf@onrr.gov.

SUPPLEMENTARY INFORMATION: On February 24th, 2012, the Department published a notice in the Federal Register seeking comment on the multi-stakeholder group for the Extractive Industries Transparency Initiative (74 FR 11151). In that notice, the Department stated that it would hold a series of public listening sessions to provide additional opportunities for public comment on EITI implementation in the United States.

In September 2011, President Barack Obama announced the United States' commitment to participate in the Extractive Industries Transparency Initiative. EITI is a signature initiative of the U.S. national action plan for the international Open Government Partnership and offers a voluntary framework for governments and companies to publicly disclose in parallel the revenues paid and received for extraction of oil, gas and minerals owned by the state. The design of each framework is country-specific, and is developed through a multi-year, consensus based process by a multi-stakeholder group comprised of government, industry and civil society. Thirty-five countries are in various stages of implementing EITI, most of them developing countries.

On October 25, President Obama named Secretary of the Interior Ken Salazar as the U.S. Senior Official responsible for implementing the United States Extractive Industries Transparency Initiative (USEITI). In response, Secretary Salazar posted a White House blog the same day, committing to work with industry and civil society to implement USEITI.

EITI will strengthen relationships among the U.S. government, industry, and civil society; deliver a more transparent, participatory, and collaborative government; promote accountability to help ensure the full and fair return to the American people for the use of its public resources; and enable the U.S. to lead by example internationally on transparency and good governance. For further information on EITI, please visit the Department's EITI Web page at http://www.doi.gov/EITI.

Accordingly, the Department of the Interior is seeking public comment and recommendations on the following specific issues:

• The EITI requires a multi-stakeholder group to be formed to oversee implementation. Who are the key sectors or stakeholders that need to be involved in the multi-stakeholder group?

• How best can a balance of interests and perspectives, be achieved in the formation of the multi-stakeholder group?

• In your opinion, what are the key attributes of both a successful and high functioning multi-stakeholder group and the successful implementation of USEITI?

• What key concerns, if any, do you have about implementing the USEITI process?

We encourage stakeholders and members of the public to participate. The listening sessions will be open to the public without advance registration; however, attendance may be limited to the space available at each venue. For building security measures, each person may be required to present a picture identification to gain entry to the meetings.

Dated: March 2, 2012.
Gregory J. Gould,
Director for Office of Natural Resources Revenue.

[FR Doc. 2012-5668 Filed 3-7-12; 8:45 am]

BILLING CODE 4310-T2-P